DEPARTMENT OF HOMELAND SECURITY

Coast Guard

33 CFR Part 165

[Docket Number USCG-2017-1011]

RIN 1625-AA00

Safety Zone, Delaware River; Pipeline Removal

AGENCY: Coast Guard, DHS.

ACTION: Temporary final rule; correcting amendment.

SUMMARY: The Coast Guard is correcting a temporary final rule that appeared in the Federal Register on November 6, 2017. The document issued a temporary safety zone for in the Mifflin Range on the Delaware River to facilitate pipeline removal in preparation for the deepening of the Delaware River. Due to mechanical issues on the SHELBY, the dredging operations will be attended by the towing vessel GRAPE APE for the duration of the safety zone. All vessel contact information remains the same.

DATES: This correction is effective without actual notice from November 13, 2017 until December 4, 2017. For the purpose of enforcement, actual notice will be used from November 6, 2017, until November 13, 2017.

FOR FURTHER INFORMATION CONTACT: If you have questions on this rule, call or email Petty Officer Edmund Ofalt, Waterways Management Branch, U.S. Coast Guard Sector Delaware bay; telephone (215) 271-4814, email Edmund.J.Ofalt@uscg.mil.

SUPPLEMENTARY INFORMATION: In FR Doc. 2017-24068, appearing at 82 FR 51347 on Monday, November 6, 2017, § 165.T05-1011(c) incorrectly references “SHELBY” instead of “GRAPE APE.” This document corrects that error.

List of Subjects in 33 CFR Part 165

Harbors, Marine safety, Navigation (water), Reporting and recordkeeping requirements, Security measures, Waterways.

For the reasons discussed in the preamble, the Coast Guard corrects 33 CFR part 165 by making the following correcting amendment:

PART 165—REGULATED NAVIGATION AREAS AND LIMITED ACCESS AREAS

1. The authority citation for part 165 continues to read as follows:

Authority: 33 U.S.C. 1231; 50 U.S.C. 191; 33 CFR 1.05-1, 6.04-1, 6.04-6, and 160.5; Department of Homeland Security Delegation No. 0170.1.

§ 165.T05-1011 [Corrected]

2. In § 165.T05-1011(c), remove “SHELBY” wherever it appears and adding in its place “GRAPE APE”.

Dated: November 6, 2017.
Scott E. Anderson,
Captain, U.S. Coast Guard, Captain of the Port, Delaware Bay.

[FR Doc. 2017-24508 Filed 11-9-17; 8:45 am]

BILLING CODE 9110-04-P